DEPARTMENT OF LABOR

Employment and Training Administration

[TA-W-80,089]

Parkdale America, LLC, a Division of Parkdale Mills, Inc., Plant #22, Galax, VA; Notice of Affirmative Determination Regarding Application for Reconsideration

By application dated June 22, 2011, a petitioner requested administrative reconsideration of the negative determination regarding workers' eligibility to apply for Trade Adjustment Assistance (TAA) applicable to workers and former workers of Parkdale America, LLC, a division of Parkdale Mills, Inc., Plant #22, Galax, Virginia (subject firm). The determination was issued on June 8, 2011. The Department's Notice of Determination was published in the Federal Register on June 24, 2011 (76 FR 37155). Workers are engaged in activities related to the production of yarn.

The negative determination was based on the Department's findings that the subject firm did not shift production of yarn to a foreign country; the subject firm did not import yarn during the relevant period; and increased U.S. aggregate imports of articles like or directly competitive with yarn produced at the subject firm did not contribute importantly to the subject workers' separation because the imports coincide with increases in sales and production at the subject firm.

Further, the investigation revealed that the subject firm is not a Supplier or Downstream Producer to a firm that employed a group of workers who received a certification of eligibility under Section 222(a) of the Act, 19 U.S.C. 2272(a).

The determination stated that the workers' separations were attributable to a change of product line.

In the request for reconsideration, the petitioner stated that “Parkdale #22 Galax plants only customer is in China, the company lowered the production, which eliminated our jobs because the customer lowered the orders * * *.”

The Department has carefully reviewed the petitioner's request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 15th day of September, 2011.
Del Min Amy Chen,
Certifying Officer, Office of Trade Adjustment Assistance.

[FR Doc. 2011-24479 Filed 9-22-11; 8:45 am]

BILLING CODE 4510-FN-P